ENVIRONMENTAL PROTECTION AGENCY

[EPA-HQ-OAR-2007-0563; FRL-9964-18-OEI]

Information Collection Request Submitted to OMB for Review and Approval; Comment Request; Reporting and Recordkeeping Requirements for National Volatile Organic Compound Emission Standards for Consumer Products (Renewal)

AGENCY: Environmental Protection Agency (EPA).

ACTION: Notice.

SUMMARY: The Environmental Protection Agency (EPA) has submitted an information collection request (ICR), Reporting and Recordkeeping Requirements for National Volatile Organic Compound Emission Standards for Consumer Products, to the Office of Management and Budget (OMB) for review and approval in accordance with the Paperwork Reduction Act. This is a proposed extension of the ICR, which is currently approved through June 30, 2017. Public comments were previously requested via the Federal Register on March 22, 2017, during a 60-day comment period. No comments were received on that document. This notice allows for an additional 30 days for public comments. A fuller description of the ICR is given below, including its estimated burden and cost to the public. An Agency may not conduct or sponsor and a person is not required to respond to a collection of information unless it displays a currently valid OMB control number.

DATES: Additional comments may be submitted on or before July 27, 2017.

ADDRESSES: Submit your comments, referencing Docket ID No. EPA-HQ-OAR-2007-0563, to (1) the EPA online using www.regulations.gov (our preferred method), by email to a-and-r-docket@epa.gov, or by mail to EPA Docket Center, Environmental Protection Agency, Mail Code 28221T, 1200 Pennsylvania Ave. NW., Washington, DC 20460, and (2) OMB via email to oira_submission@omb.eop.gov. Address comments to OMB Desk Officer for EPA.

The EPA's policy is that all comments received will be included in the public docket without change, including any personal information provided, unless the comment includes profanity, threats, information claimed to be Confidential Business Information (CBI), or other information whose disclosure is restricted by statute.

FOR FURTHER INFORMATION CONTACT: Ms. Susan Fairchild, Office of Air and Radiation, Office of Air Quality Planning and Standards, Mail Code D243-04, Research Triangle Park, North Carolina 27711; telephone number: (919) 541-5167; fax number: (919) 541-5450; email address: Fairchild.susan@epa.gov.

SUPPLEMENTARY INFORMATION: Supporting documents for this ICR (Reporting and Recordkeeping Requirements for National Volatile Organic Compound Emission Standards for Consumer Products (40 CFR part 59, subpart C) (Renewal); OMB Control Number 2060-0348; EPA ICR Number 1764.07), which explain in detail the information that the EPA will be collecting are available in the public docket for this ICR. The docket can be viewed online at www.regulations.gov or in person at the EPA Docket Center, EPA WJC West Building, Room 3334, 1301 Constitution Ave. NW., Washington, DC. The telephone number for the EPA Docket Center is (202) 566-1744. For additional information about the EPA's public docket, visit http://www.epa.gov/dockets.

Abstract: The EPA is required under section 183(e) of the Clean Air Act (CAA) to regulate volatile organic compound (VOC) emissions from the use of consumer and commercial products. Pursuant to CAA section 183(e)(3), the EPA published a list of consumer and commercial products and a schedule for their regulation (60 FR 15264). The standards for consumer products are codified at 40 CFR part 59, subpart C. The information collection includes initial reports and periodic recordkeeping necessary for the EPA to ensure compliance with Federal standards for VOC in consumer products. Respondents are manufacturers, distributors, and importers of consumer products. All information submitted to the EPA for which a claim of confidentiality is made will be safeguarded according to the Agency policies set forth in 40 CFR part 2, subpart B, Confidentiality of Business Information. The reports required under the standards enable the EPA to identify all consumer products manufacturers, distributors, and importers in the United States and to determine which consumer products are subject to the standards.

Form Numbers: None.

Respondents/Affected entities: Entities potentially affected by this action as respondents are manufacturers, distributors, and importers of consumer products.

Respondent's obligation to respond: Responses to the collection are mandatory under 40 CFR part 59, subpart C.

Estimated number of respondents: 300 (total).

Frequency of response: On occasion.

Total estimated burden: 16,126 hours (per year). Burden is defined at 5 CFR 1320.03(b).

Total estimated cost: $1,765,427 (per year), includes $0 annualized capital or operation and maintenance costs.

Changes in the estimates: There is a decrease of 13,487 hours in the total estimated respondent burden compared with the ICR currently approved by OMB. This decrease is due to adjustments to the estimated hours for each level of review. These adjustments are consistent with the assumptions used routinely in ICR renewals, and are discussed in the supporting statements for this action.

Courtney Kerwin,
Director, Regulatory Support Division.

[FR Doc. 2017-13373 Filed 6-26-17; 8:45 am]

BILLING CODE 6560-50-P